DEPARTMENT OF HEALTH AND HUMAN SERVICES

Administration for Children and Families

Submission for OMB Review; National Medical Support Notice—Part A

AGENCY: Office of Child Support Enforcement; Administration for Children and Families; HHS.

ACTION: Request for public comment.

SUMMARY: The Administration for Children and Families (ACF) is requesting a three year extension of the form National Medical Support Notice (NMSN) Part A (OMB #0970-0222 expiration 8/31/2019). Changes were made to the form based on comments received during the 60 day Notice.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV. Attn: Desk Officer for the Administration for Children and Families.

Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

SUPPLEMENTARY INFORMATION: Description: The National Medical Support Notice (NMSN) is a two-part document completed by state child support enforcement agencies, employers, and health plan administrators to enforce health care coverage provisions in a child support order. The Department of Health and Human Services (DHHS) developed and maintains Part A of the NMSN, which is sent to an obligor's employer for completion; the Department of Labor (DOL) developed and maintains Part B of the NMSN, which is provided to health care administrators following completion of Part A.

The Administration for Children and Families is requesting that the NMSN Part A expiration dates continue to be synchronize with the expiration date of NMSN Part B submitted by DOL.

Respondents: State child support enforcement agencies, employers, and health plan administrators.

Annual Burden Estimates
Instrument | Respondents | Annual number of respondents | Number of responses per respondent | Average burden hours per response | Annual burden hours
National Medical Support Notice—Part A—Notice to Withhold for Health Care Coverage | State | 54 | 89,634 | .17 | 822,840
| Employers | 1,275,624 | 3.79 | .17 | 821,885

Estimated Total Annual Burden Hours: 1,644,725.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authorities: Section 466(a)(19) of the Social Security Act (42 U.S.C. 666(a)(19)), section 609(a)(5)(C) of the Employee Retirement Income Security Act of 1974 (ERISA) (29 U.S.C. 1169(a)(5)(C)), and for State and local government and church plans sections 401(e) and (f) of the Child Support Performance and Incentive Act of 1998 (29 CFR 2590.609-2).

Mary B. Jones,
ACF/OPRE Certifying Officer.

[FR Doc. 2019-14834 Filed 7-11-19; 8:45 am]

BILLING CODE 4184-14-P